NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before October 4, 2004. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: records.mgt@nara.gov.

FAX: 301-837-3698.

Requesters must cite the control number, which appears in parentheses after the name of the agency which submitted the schedule, and must provide a mailing address. Those who desire appraisal reports should so indicate in their request.

FOR FURTHER INFORMATION CONTACT: Paul M. Wester, Jr., Director, Life Cycle Management Division (NWML), National Archives and Records Administration, 8601 Adelphi Road, College Park, MD 20740-6001. Telephone: 301-837-3120. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Homeland Security, Federal Emergency Management Agency (N1-311-04-3, 2 items, 2 temporary items). Files relating to care provided during emergencies to patients and animals affected by the event. Included are such materials as patient medical assessment and treatment records, patient logs, patient transportation information forms, and animal medical assessment and treatment records.

2. Department of Justice, Environment and Natural Resources Division (N1-60-04-8, 4 items, 3 temporary items). Case files relating to water rights that are comprised of a single section/volume of documentation. Also included are electronic copies of records relating to water rights cases that are created using word processing and electronic mail. Recordkeeping copies of case files consisting of more than one section/volume are proposed for permanent retention.

3. Department of Justice, Drug Enforcement Administration (N1-170-04-8, 5 items, 5 temporary items). Master files, outputs, and documentation associated with the Polygraph Information Tracking System, an electronic system used to track the status of polygraph tests performed on agency employees, foreign assistants, and criminals. Also included are electronic copies of documents created using electronic mail and word processing.

4. Department of Justice, Drug Enforcement Administration (N1-170-04-9, 5 items, 5 temporary items). Master files, outputs, and documentation associated with the Enhanced Non-Drug Evidence Database System, an electronic system used to track and report on the status of non-drug evidence and pertinent bulk drug exhibits taken into agency custody. Also included are electronic copies of documents created using electronic mail and word processing.

5. Department of Labor, Employment and Training Administration, (N1-369-04-1, 3 items, 1 temporary item). Electronic copies of records produced using electronic mail and word processing that are associated with agency publications. Recordkeeping copies of publications are proposed for permanent retention.

6. Department of State, Bureau of Diplomatic Security (N1-59-04-3, 5 items, 5 temporary items). Inputs, system data, outputs, and documentation associated with an Office of Foreign Missions electronic system that contains data relating to members of foreign missions, including documentation concerning such matters as issuance of drivers' licenses, immunity from prosecution, and tax exemptions.

7. Department of Transportation, Federal Aviation Administration (N1-237-04-1, 6 items, 5 temporary items). Records relating to inspections of air carriers, flight schools, repair stations, and other entities involved in aviation. Included are such records as inspection forms, correspondence, and individual inspection reports. Also included are electronic copies of records created using electronic mail and word processing. Recordkeeping copies of annual reports are proposed for permanent retention.

8. Department of the Treasury, Bureau of Engraving and Printing (N1-318-04-2, 4 items, 4 temporary items). Master files and system documentation relating to an electronic system used for integrated enterprise resource planning in order to ensure product accountability at agency facilities. Also included are electronic copies of records created using electronic mail and word processing.

9. Department of the Treasury, Bureau of Engraving and Printing (N1-318-04-9, 4 items, 3 temporary items). Records relating to agreements under which the agency reimburses other Federal agencies. Also included are electronic copies of records created using electronic mail and word processing that relate to agreements. Proposed for permanent retention are recordkeeping copies of agreements and related records pertaining to projects in which the agency receives reimbursement.

10. Environmental Protection Agency, Agency-wide (N1-412-04-3, 3 items, 3 temporary items). Paper and electronic records relating to investigations and hazardous waste clean up activities at formerly used defense sites. Included are such records as reports and correspondence pertaining to sampling and assessment of contaminated areas, cleanup and site closeout, and other matters. Historically valuable records relating to these activities are filed in permanent Superfund and related case files. Also included are electronic copies of records created using electronic e-mail and word processing.

11. Federal Retirement Thrift Investment Board, Office of Administration (N1-474-04-2, 5 items, 5 temporary items). Debt collection case files and other records that relate to debts owed to the agency by Thrift Savings Plan participants, their beneficiaries, and others. Also included are electronic copies of records created using electronic mail and word processing.

12. General Services Administration, Office of the Inspector General (N1-269-04-1, 4 items, 4 temporary items). Electronic copies of records created using electronic mail and word processing that relate to inspections of field offices, pre-appointment investigations of criminal investigators, and Inspector General employees who testify in criminal matters. This schedule also increases the retention period of recordkeeping copies of these files, which were previously approved for disposal.

13. Tennessee Valley Authority, Radiation Protection Program (N1-142-04-3, 22 items, 22 temporary items). Paper, microfilm, and electronic records relating to radiation protection activities. Records pertain to such matters as the radiation exposure history of individual employees, radiological control programs, and procedures to deal with radiological emergencies. Also included are electronic copies of documents created using electronic mail and word processing.

Dated: August 9, 2004.
Michael J. Kurtz,
Assistant Archivist for Records Services—Washington, DC.

[FR Doc. 04-18871 Filed 8-17-04; 8:45 am]

BILLING CODE 7515-01-P